DEPARTMENT OF COMMERCE

International Trade Administration

Cancellation of Clinical Waste Management Mission to Indonesia and Malaysia, September 11-15, 2023

AGENCY: International Trade Administration, Department of Commerce.

ACTION: Notice; cancellation.

SUMMARY: On March 18, 2022, the United States Department of Commerce notified the public of Announcement of Winter 2022 Approved International Trade Administration Trade Missions, including a Clinical Waste Management Mission to Indonesia and Malaysia, September 11-15, 2023. The International Trade Administration has cancelled this Trade Mission.

FOR FURTHER INFORMATION CONTACT: Tricia McLain, Senior International Trade Specialist, U.S. Commercial Service, Newark, NJ 973-264-9646, Tricia.McLain@trade.gov.

Gemal Brangman,
Director, ITA Events Management Task Force.

[FR Doc. 2023-14797 Filed 7-11-23; 8:45 am]

BILLING CODE 3510-DR-P